DEPARTMENT OF ENERGY

Federal Energy Regulatory Commission

Combined Notice of Filings #2

Take notice that the Commission received the following electric corporate filings:

Docket Numbers: EC13-91-000.

Applicants: Florida Power & Light Company.

Description: Florida Power & Light Company submits response to May 15, 2013 letter requesting additional information on the impact of the transaction on rates etc.

Filed Date: 5/28/13.

Accession Number: 20130528-5157.

Comments Due: 5 p.m. ET 6/24/13.

Take notice that the Commission received the following exempt wholesale generator filings:

Docket Numbers: EG13-39-000.

Applicants: Osprey Energy Center, LLC.

Description: Self-Certification of Exempt Wholesale Generator Status of Osprey Energy Center, LLC.

Filed Date: 6/10/13.

Accession Number: 20130610-5069.

Comments Due: 5 p.m. ET 7/1/13.

Docket Numbers: EG13-40-000.

Applicants: CCFC Sutter Energy, LLC.

Description: Self-Certification of Exempt Wholesale Generator Status of CCFC Sutter Energy, LLC.

Filed Date: 6/10/13.

Accession Number: 20130610-5071.

Comments Due: 5 p.m. ET 7/1/13.

Docket Numbers: EG13-41-000.

Applicants: Westbrook Energy Center, LLC.

Description: Self-Certification of Exempt Wholesale generator Status of Westbrook Energy Center, LLC.

Filed Date: 6/10/13.

Accession Number: 20130610-5072.

Comments Due: 5 p.m. ET 7/1/13.

Take notice that the Commission received the following electric rate filings:

Docket Numbers: ER10-2738-002.

Applicants: The Empire District Electric Company.

Description: Supplement to June 29, 2012 Triennial Market Power Analysis.

Filed Date: 2/6/13.

Accession Number: 20130206-5043.

Comments Due: 5 p.m. ET 6/24/13.

Docket Numbers: ER13-1649-000.

Applicants: Trademark Merchant Energy, LLC.

Description: Amendment to MBR Tariff—Polaris to be effective 8/9/2013.

Filed Date: 6/10/13.

Accession Number: 20130610-5058.

Comments Due: 5 p.m. ET 7/1/13.

Docket Numbers: ER13-1650-000.

Applicants: Tyr Energy LLC.

Description: Amendment to MBR Tariff—Polaris to be effective 8/9/2013.

Filed Date: 6/10/13.

Accession Number: 20130610-5059.

Comments Due: 5 p.m. ET 7/1/13.

Docket Numbers: ER13-1651-000.

Applicants: PJM Interconnection, L.L.C.

Description: PJM Interconnection, L.L.C. submits tariff filing per 35.13(a)(2)(iii: Original Service Agreement No. 3570; Queue No. NQ81 to be effective 5/9/2013.

Filed Date: 6/10/13.

Accession Number: 20130610-5078.

Comments Due: 5 p.m. ET 7/1/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 10, 2013.
Nathaniel J. Davis, Sr.,
Deputy Secretary.

[FR Doc. 2013-14317 Filed 6-14-13; 8:45 am]

BILLING CODE 6717-01-P